DEPARTMENT OF STATE

[Public Notice Number 3280]

International Telecommunication Advisory Committee Radiocommunications (ITAC-R); Notice of Meeting

The International Telecommunications Advisory Committee—Radiocommunications provides policy and technical advice to the department on matters concerning radiocommnuication in preparation for United States participation in international meetings and conferences.

A meeting of the ITAC-R will be held Thursday, May 11, 2000, in room 1912, at the Department of State. The purpose of the meeting is to provide information and obtain advice, as appropriate, concerning the World Radiocommunication Conference underway May 8-June 2, 2000, in Istanbul, Turkey. The department apologizes for such short notice necessitated by changes in the chairman's schedule.

Members of the general public may attend these meetings. Entrance to the Department of State is controlled; people intending to attend any of the ITAC. Meetings should send a fax to (202) 647-7407 not later than 24 hours before the meeting. This fax should display the name of the meeting and date of meeting, your name, social security number, date of birth, and organizational affiliation. One of the following valid photo identifications will be required for admission: U.S. driver's license, passport, U.S. Government identification card. Enter from the C street lobby; in view of escorting requirements, non-government attendees should plan to arrive not less than 15 minutes before the meeting begins.

Dated: May 2, 2000.
Brian K. Ramsay,
Telecommunications Officer, Office of Multilateral Affairs, U.S. Department of State.

[FR Doc. 00-11408 Filed 5-3-00; 2:45 pm]

BILLING CODE 4710-45-P